DEPARTMENT OF HOMELAND SECURITY

Coast Guard

33 CFR Part 165

[Docket No. USCG-2021-0250]

Safety Zone; Lights on the Lake Fourth of July Fireworks; South Lake Tahoe, CA

AGENCY: Coast Guard, DHS.

ACTION: Notice of enforcement of regulation.

SUMMARY: The Coast Guard will enforce the safety zone for South Lake Tahoe's Light on the Lake Fourth of July Fireworks in the Captain of the Port, San Francisco area of responsibility during the dates and times noted below. This action is necessary to protect personnel, vessels, and the marine environment from the dangers associated with pyrotechnics. During the enforcement period, unauthorized persons or vessels are prohibited from entering into, transiting through, or remaining in the safety zone, unless authorized by the Patrol Commander (PATCOM).

DATES: The regulations in 33 CFR 165.1191, Table 1, Item number 18, will be enforced from 7 a.m. on July 1, 2021 through 10:30 p.m. on July 4, 2021.

FOR FURTHER INFORMATION CONTACT: If you have questions on this notice of enforcement, call or email Lieutenant Anthony Solares, U.S. Coast Guard Sector San Francisco; telephone (415) 399-3585 or email at SFWaterways@uscg.mil.

SUPPLEMENTARY INFORMATION: The Coast Guard will enforce the safety zone established in 33 CFR 165.1191, Table 1, Item number 18, for the Lights on the Lake Fourth of July Fireworks; South Lake Tahoe, CA from July 1, 2021 to July 4, 2021. The Coast Guard will enforce a 100-foot safety zone around the three fireworks barges during the loading, standby, transit, and arrival of the fireworks barges from the loading location to the display location and until the start of the fireworks display. On July 1, 2021 through July 4, 2021, the three fireworks barges will be loaded with equipment only beginning at approximately 7 a.m. at Tahoe Keys Marina in South Lake Tahoe, CA. On July 1 2021, the three fireworks barges will be loaded with pyrotechnics at approximately 7 a.m. at Edgewood, Stateline, Nevada, taking approximately 3 to 4 hours to load. The fireworks barges will remain on standby at the loading location until their transit to the display location. On July 4 2021, from 8 a.m. to 11 a.m. the loaded fireworks barges will transit from Edgewood, Stateline, Nevada to the launching area off Stateline Beach, Stateline, Nevada, approximately at position 38°57″ 56.0″ N 119°57″ 21.2″ W (NAD 83), where they will remain until the conclusion of the fireworks display. As set forth in 33 CFR 165.1191, Table 1, Item number 15, upon the commencement of the 25 to 30-minute fireworks display, the safety zone will expand to encompass all navigable waters, from surface to bottom, within a circle formed by connecting all points 1,000 feet out from the fireworks barges near Stateline Beach, Stateline, NV. The approximate position for firework display is 38°57″ 56.0″ N 119°57″ 21.2″ W (NAD 83). The safety zone will be enforced until 10:30 p.m. on July 4 2021, or as announced via Local Notice to Mariners.

Under the provisions of 33 CFR 165.1191, unauthorized persons or vessels are prohibited from anchoring, blocking, loitering, or impeding the through transit of participants or official patrol vessels in the safety zone during all applicable effective dates and times. All vessels in the safety zone during the effective dates and times are subject to movement control by the PATCOM or other Official Patrol, defined as a federal, state, or local law enforcement agency on scene to assist the Coast Guard in enforcing the safety zone. During the enforcement period, if you are the operator of a vessel in one of the safety zones you must comply with directions from the Patrol Commander or other Official Patrol.

In addition to this notice of enforcement in the Federal Register, the Coast Guard plans to provide notification of this enforcement period via the Local Notice to Mariners.

If the Captain of the Port determines that the regulated area need not be enforced for the full duration stated in this notice, a Broadcast Notice to Mariners may be used to grant general permission to enter the regulated area.

Dated: June 21, 2021.
Jordan M. Baldueza,
Captain, U.S. Coast Guard, Alternate Captain of the Port, San Francisco.

[FR Doc. 2021-13612 Filed 6-24-21; 8:45 am]

BILLING CODE 9110-04-P